DEPARTMENT OF THE TREASURY

Bureau of the Fiscal Service

Proposed Collection of Information: Claim Against the United States for the Proceeds of a Government Check

ACTION: Notice and request for comments.

SUMMARY: The Department of the Treasury, as part of its continuing effort to reduce paperwork and respondent burden, invites the general public and other Federal agencies to take this opportunity to comment on proposed and/or continuing information collections, as required by the Paperwork Reduction Act of 1995. Currently the Bureau of the Fiscal Service within the Department of the Treasury is soliciting comments concerning Fiscal Service Form 1133—Claim Against the United States for the Proceeds of a Government Check.

DATES: Written comments should be received on or before February 20, 2018 to be assured of consideration.

ADDRESSES: Direct all written comments and requests for additional information to Bureau of the Fiscal Service, Bruce A. Sharp, 200 Third Street A4-A, Parkersburg, WV 26106-1328, or bruce.sharp@fiscal.treasury.gov.

SUPPLEMENTARY INFORMATION: Title: Claim Against the United States for the Proceeds of a Government Check.

OMB Number: 1530-0010.

Form Number: FS Form 1133.

Abstract: Form FMS 1133 is used to collect information needed to process an individual's claim for non-receipt of proceeds from a U.S. Treasury check. Once the information is analyzed, a determination is made and a recommendation is submitted to the program agency to either settle or deny the claim.

Current Actions: It has become necessary to introduce a similar form to address non-receipt of electronic benefit payments. It is estimated that an additional 4,000 annual burden hours will be experienced for collection and analysis of the information provided in the claim form, and subsequent actions necessary to reconcile the claim.

Current Actions: Extension of a currently approved collection.

Type of Review: Regular.

Affected Public: Individuals or Households.

Estimated Number of Respondents: 51,640.

Estimated Time per Respondent: 10 minutes.

Estimated Total Annual Burden Hours: 8,607.

Request for Comments: Comments submitted in response to this notice will be summarized and/or included in the request for OMB approval. All comments will become a matter of public record. Comments are invited on: (1) Whether the collection of information is necessary for the proper performance of the functions of the agency, including whether the information shall have practical utility; (2) the accuracy of the agency's estimate of the burden of the collection of information; (3) ways to enhance the quality, utility, and clarity of the information to be collected; (4) ways to minimize the burden of the collection of information on respondents, including through the use of automated collection techniques or other forms of information technology; and (5) estimates of capital or start-up costs and costs of operation, maintenance, and purchase of services to provide information.

Dated: December 14, 2017.
Bruce A. Sharp,
Bureau Clearance Officer.

[FR Doc. 2017-27312 Filed 12-18-17; 8:45 am]

BILLING CODE 4810-AS-P